FEDERAL ELECTION COMMISSION

Sunshine Act Notices

AGENCY: Federal Election Commission

DATE AND TIME: Thursday, September 23, 2010, at 10 a.m.

PLACE: 999 E Street, NW., Washington, DC (Ninth Floor).

STATUS: This meeting will be open to the public.

ITEMS TO BE DISCUSSED: Correction and Approval of Minutes.

Draft Advisory Opinion 2010-16: EmblemHealth Services Company LLC and Health Insurance Plan of Greater New York by its counsel, Jerry H. Goldfeder, of Stroock & Stroock & Lavan, LLP.

Draft Advisory Opinion 2010-17: Stutzman for Congress by Christopher M. Marston.

Draft Advisory Opinion 2010-18: Minnesota Democratic-Farmer-Labor Party by its counsel, Marc E. Elias, Esq. and Jonathan S. Berkon, Esq. of Perkins Coie, LLP.

Draft Advisory Opinion 2010-19: Google by its counsel, Marc E. Elias, Esq. and Jonathan S. Berkon, Esq. of Perkins Coie, LLP.

Draft Advisory Opinion 2010-20: National Defense PAC by its counsel, Dan Backer, Esq.

Management and Administrative Matters.

Individuals who plan to attend and require special assistance, such as sign language interpretation or other reasonable accommodations, should contact Lisa Chapman, Recording Secretary, at (202) 694-1040, at least 72 hours prior to the hearing date.

PERSON TO CONTACT FOR INFORMATION: Judith Ingram, Press Officer, Telephone: (202) 694-1220.

Lisa Chapman,
Acting Secretary and Clerk of the Commission.

[FR Doc. 2010-24329 Filed 9-29-10; 8:45 am]

BILLING CODE 6715-01-M